DEPARTMENT OF STATE

[Public Notice 10567]

60-Day Notice of Proposed Information Collection: Visitor Access Control System Domestic

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 7, 2019.

ADDRESSES: You may submit comments by any of the following methods:

• Web: Persons with access to the internet may comment on this notice by going to www.Regulations.gov. You can search for the document by entering “Docket Number: DOS-2018-0047” in the Search field. Then click the “Comment Now” button and complete the comment form.

• Email: idservicescsc@state.gov.

• Regular Mail: Send written comments to: DS/DO/DFP—2201 C Street NW, Washington, DC 22052, Room B237.

You must include the DS form number (if applicable), information collection title, and the OMB control number in any correspondence.

FOR FURTHER INFORMATION CONTACT: Direct requests for additional information regarding the collection listed in this notice, including requests for copies of the proposed collection instrument and supporting documents, to Systems Operations, 2201 C Street NW, Washington DC 22052, Room B237, attention John Ferguson, who may be reached on 202-647-3854or at fergusonjm3@state.gov.

SUPPLEMENTARY INFORMATION:

• Title of Information Collection: Visitor Access Control System Domestic.

• OMB Control Number: None.

• Type of Request: New collection.

• Originating Office: DS/DO/DFP/SSD.

• Form Number: No Form number.

• Respondents: Visitors requesting access to Department facilities.

• Estimated Number of Respondents: 161,594.

• Estimated Number of Responses: 161,594.

• Average Time per Response: 2 minutes.

• Total Estimated Burden Time: 323,188 minutes.

• Frequency: Annually.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Visitor Access Control System Domestic (VACS-D) supports the Office of Domestic Facilities Protection's (DS/DO/DFP) mission requirements to provide a secure environment for Department employees and visitors. Visitors to the Department seeking access to facilities will be the respondents if access is to be granted. The legal authority for the collection of information is the same as that which established the Bureau of Diplomatic Security: The Omnibus Diplomatic Security and Antiterrorism Act of 1986 (Pub. L. 99-399; 22 U.S.C. 4801, et seq. (a986) as amended.

Methodology

Information will be collected electronically at the time of visit.

Timothy Thomas,
Division Chief, Diplomatic Security, Office of Domestic Facilities Protection, Department of State.

[FR Doc. 2019-04264 Filed 3-7-19; 8:45 am]

BILLING CODE 4710-43-P